DEPARTMENT OF HEALTH AND HUMAN SERVICES

Centers for Disease Control and Prevention

[Program Announcement 04018]

Cooperative Agreement With the University of Malawi College of Medicine; Notice of Intent To Fund Single Eligibility Award

A. Purpose

A Notice of Intent to Fund a Single Eligibility Award, Program Announcement 03127 was published in the Federal Register, May 13, 2003, Vol 68, Number 92, pages 25612-25613. That notice is rescinded, and replaced as follows:

The Centers for Disease Control and Prevention (CDC) announces the intent to fund fiscal year (FY) 2004 funds for a cooperative agreement program with the University of Malawi, College of Medicine, located in Blantyre, Malawi. The Catalog of Federal Domestic Assistance number for this program is 93.283.

B. Eligible Applicant

Assistance will be provided only to the University of Malawi, College of Medicine. The University of Malawi, College of Medicine is the only institution that possesses the requisite scientific and technical expertise, the infrastructure capacity and experience in conducting the described operations research topics, and which has collaborative relationships within Malawi and internationally to ensure that all aspects of this agreement can be fulfilled.

C. Funding

Approximately $125,000 is available in FY 2004 to fund this award. It is expected that the award will begin on or before December 1, 2003, and will be made for a 12-month budget period within a project period of up to five years. Funding estimates may change.

D. Where to Obtain Additional Information

For general comments or questions about this announcement, contact:

Technical Information Management, CDC Procurement and Grants Office, 2920 Brandywine Road, Atlanta, GA 30341-4146, Telephone: 770-488-2700.

For technical questions about this program, contact: Carl Campbell, Program Manager, Blantyre Integrated Malaria Initiative, Blantyre District Health Office, Blantyre, Malawi, Telephone: 265-167-6071 or 265-883-2614, E-mail address: cdc@malawi.net.

Dated: August 18, 2003.
Sandra R. Manning,
Director, Procurement and Grants Office, Centers for Disease Control and Prevention.

[FR Doc. 03-21864 Filed 8-26-03; 8:45 am]

BILLING CODE 4163-18-P